DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix ``M'' denote a modification request. These applications have been separated from the new applications for exemptions to facilitate processing.

DATES: Comments must be received on or before September 15, 2003.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC, or at http://dms.dot.gov.

This notice of receipt of applications for modification of exemptions is published in accordance with part 107 of the Federal hazardous materials transportation law (49 U.S.C. 5117(b); 49 CFR 1.53(b)).

Issued in Washington, DC, on August 19, 2003.
R. Ryan Posten,
Exemptions Program Officer, Office of Hazardous Materials, Exemptions and Approvals.

Application No. | Docket No. | Applicant | Modification of exemption
3302-M |  | Air Products and Chemicals, Inc., Allentown, PA ¹ | 3302
6263-M |  | Amtrol, Inc., West Warwick, RI ² | 6263
10019-M |  | Structural Composites Industries, Pomona, CA ³ | 10019
10319-M |  | Amtrol, Inc., West Warwick, RI ⁴ | 10319
12756-M | RSPA-01-10112 | Bechtel Jacobs Company LLC, Oak Ridge, TN ⁵ | 12756
12827-M | RSPA-01-10586 | Bechtel Jacobs Company, LLC, Oak Ridge, TN ⁶ | 12827
12871-M | RSPA-01-11072 | Southern Calif. Edison-San Onofre Nuclear Gen Stn, San Clemente, CA ⁷ | 12871
13080-M | RSPA-02-12999 | Pressed Steel Tank Co., Milwaukee, WI ⁸ | 13080
13230-M | RSPA-03-15116 | FIBA Technologies, Inc., Westboro, MA ⁹ | 13230
13258-M | RSPA-03-15629 | FIBA Technologies, Inc., Westboro, MA ¹⁰ | 13258
13270-M |  | Takata Corporation, Minato-Ku Tokyo 106-8510, JA ¹¹ | 13270
¹ To modify the exemption to authorize the construction of a newer lightweight outer protective shipping case for non-DOT specification sampling bottles transporting certain Division 2.2 materials.
² To modify the exemption to authorize an increased working pressure to 300 psig for the non-DOT specification pressure vessels and a change to the pressure vessel testing requirements.
³ To modify the exemption to authorize the transportation of an additional Division 2.2 material in non-DOT specification fiber reinforced plastic (FRP) full wrapped composite (FC) cylinders.
⁴ To modify the exemption to authorize additional pressure vessel model numbers and eliminate the hydrostatic pressure testing requirement.
⁵ To modify the exemption to authorize a change to the destination for delivery requirement to allow operational flexibility for treatment of the Division 1.1, 4.1 and 5.2 materials before their final destination.
⁶ To modify the exemption to authorize a change to the destination for delivery requirement to allow operational flexibility for treatment of various hazardous materials before their final destination.
⁷ To modify the exemption to authorize route changes for the one-time transportation of a package containing a nuclear generating-station reactor pressure vessel having Class C waste internal components by cargo vessel and motor vehicle for disposal.
⁸ To modify the exemption to authorize a maximum filling limit of 106% for the non-DOT specification cylinders used to transport a Division 2.3 material and to upgrade/revise cylinder markings and drawings.
⁹ To reissue the exemption originally issued on an emergency basis for the use of non-DOT specification cylinders transporting Division 2.1, 2.2 and 2.3 materials.
¹⁰ To reissue the exemption originally issued on an emergency basis for the use of non-DOT specification cylinders transporting Division 2.1, 2.2 and 2.3 materials.
¹¹ To reissue the exemption originally issued on an emergency basis for the transportation of Division 2.1 and 2.2 materials in non-DOT specification pressure vessels.

[FR Doc. 03-22097 Filed 8-28-03; 8:45 am]

BILLING CODE 4910-60-M